DEPARTMENT OF COMMERCE

National Oceanic and Atmospheric Administration

RIN 0648-XR012

Endangered and Threatened Species; Take of Anadromous Fish

AGENCY: National Marine Fisheries Service (NMFS), National Oceanic and Atmospheric Administration (NOAA), Commerce.

ACTION: Notice; availability of fishery evaluation and management plans, a proposed evaluation and determination, and a draft environmental assessment for public comment.

SUMMARY: Notice is hereby given that the Oregon Department of Fish and Wildlife (ODFW), Washington Department of Fish and Wildlife (WDFW), and Idaho Department of Fish and Game (IDFG) have provided two Fishery Management and Evaluation Plans (FMEP), and the Nez Perce Tribe has provided a Tribal Resource Management Plan (TRMP), pursuant to the protective regulations promulgated for Pacific salmon and steelhead under the Endangered Species Act (ESA). The FMEPs and TRMP specify the implementation of fisheries targeting fall Chinook salmon, and coho salmon in the Snake River Basin. This document serves to notify the public of the availability of the FMEPs, a Proposed Evaluation and Pending Determination (PEPD) on the Nez Perce Tribe's TRMP, and a draft Environmental Assessment for comment prior to a decision by NMFS on whether to approve the proposed fisheries.

DATES: Comments must be received at the appropriate address (see ADDRESSES) no later than 5:00 p.m. Pacific time on August 12, 2019. Comments received after this date may not be accepted.

ADDRESSES: Written comments on the application should be addressed to the NMFS Sustainable Fisheries Division, 1201 NE Lloyd Boulevard, Suite 1100, Portland, OR 97232. Comments may be submitted by email. The mailbox address for providing email comments is: Snake.River.Salmon.Fisheries@noaa.gov. Include in the subject line of the email comment the following identifier: Comments on Snake River Salmon Fisheries.

FOR FURTHER INFORMATION CONTACT: Charlene Hurst, at phone number: (503) 230-5409, or via email: Charlene.n.hurst@noaa.gov.

SUPPLEMENTARY INFORMATION:

ESA-Listed Species Covered in This Notice

• Chinook salmon (Oncorhynchus tshawytscha): Threatened, naturally produced and artificially propagated Snake River Spring/Summer, and Snake River Fall.

• Steelhead (O. mykiss): Threatened, naturally produced and artificially propagated Snake River Basin.

• Sockeye salmon (O. nerka): Endangered, naturally produced and artificially propagated Snake River.

Background

The fall Chinook salmon FMEP submitted jointly by IDFG, ODFW, and WDFW describes fisheries targeting adult hatchery- and natural-origin fall Chinook salmon within the Snake River Basin waters in the States of Oregon, Washington, and Idaho. The coho FMEP submitted by IDFG describes fisheries targeting adult hatchery- and natural-origin coho salmon within Snake River Basin waters in Idaho and their boundary waters with Washington and Oregon. All FMEPs were submitted to NMFS under limit 4 of the ESA 4(d) Rule for salmon and steelhead. These fisheries were designed to support fishing opportunities while minimizing potential risks to ESA-listed species. The FMEP describes timing, location, harvest impact limits, licensing, and gear requirements, and requires that all fish caught with an intact adipose fin be released unharmed. A variety of monitoring and evaluation is included in the FMEPs. Prior to approving an FMEP, NMFS must publish notification announcing the availability of the FMEP for public review and comment.

The Nez Perce Tribe TRMP describes fisheries targeting adult fall Chinook and coho salmon within the Snake River Basin. The plan was provided to NMFS under the ESA Tribal 4(d) Rule. The TRMP describes timing, location, harvest impact limits, and gear. A variety of monitoring and evaluation is included in the TRMP. Prior to making a final determination on Tribal plans, NMFS must take comments on its pending determination as to whether or not implementation of the plan will appreciably reduce the likelihood of survival and recovery of the listed salmonids.

All of these plans are considered together in the draft Environmental Assessment. NMFS proposed approval of the FMEPs and proposed determination on the TRMP are considered as a single action in the Environmental Assessment.

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 4 of the updated 4(d) rule (50 CFR 223.203(b)(4)) further provides that the prohibitions of paragraph (a) of the updated 4(d) rule (50 CFR 223.203(a)) do not apply to fisheries provided that an FMEP has been approved by NMFS to be in accordance with the salmon and steelhead 4(d) rule (65 FR 42422, July 10, 2000, as updated in 70 FR 37160, June 28, 2005).

The ESA Tribal 4(d) Rule (65 FR 42481, July 10, 2000) states that the ESA section 9 take prohibitions will not apply to Tribal Plans that will not appreciably reduce the likelihood of survival and recovery for the listed species (50 CFR 223.204(b)(3)).

Dated: July 8, 2019.
Angela Somma,
Chief, Endangered Species Conservation Division, Office of Protected Resources, National Marine Fisheries Service.

[FR Doc. 2019-14771 Filed 7-10-19; 8:45 am]

BILLING CODE 3510-22-P